DEPARTMENT OF JUSTICE

Notice Lodging of Proposed Consent Decree Under the Clean Air Act

On October 16, 2014, the Department of Justice lodged a proposed consent decree with the United States District Court for the Eastern District of Michigan in the lawsuit entitled United States v. Metal Dynamics Detroit, LLC, Civil Action No. 14-13993.

The United States filed this lawsuit under the Clean Air Act. The United States' complaint seeks injunctive relief and civil penalties for violations of the regulations that govern the handling and disposal of refrigerant containing appliances as well as violations of opacity limits at defendant's scrap metal and iron recycling facility in Detroit, Michigan. The consent decree requires the defendant to perform injunctive relief and pay a civil penalty of $110,000. The consent decree also requires that defendant perform two supplemental environmental projects, each valued at $200,000 for a total of $400,000.

The publication of this notice opens a period for public comment on the proposed consent decree. Comments should be addressed to the Assistant Attorney General, Environment and Natural Resources Division, and should refer to United States v. Metal Dynamics Detroit, LLC, D.J. Ref. No. 90-5-2-1-10192. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ—ENRD, P.O. Box 7611, Washington, DC 20044-7611.

Please enclose a check or money order for $8.75 (25 cents per page reproduction cost) payable to the United States Treasury.

Maureen Katz,
Assistant Section Chief, Environmental Enforcement Section, Environment and Natural Resources Division.

[FR Doc. 2014-25091 Filed 10-21-14; 8:45 am]

BILLING CODE 4410-CW-P